SECURITIES AND EXCHANGE COMMISSION

[File No. 500-1]

In the Matter of Broke Out, Inc.; Order of Suspension of Trading

March 17, 2016.

It appears to the Securities and Exchange Commission that the public interest and the protection of investors require a suspension of trading in the securities of Broke Out, Inc. (“BRKO”) because of concerns regarding the accuracy and adequacy of information in the marketplace and potentially manipulative transactions in BRKO common stock. BRKO is a Nevada corporation with a business address in Frankfurt, Germany and its common stock is quoted on the OTC Link (previously “Pink Sheets”) operated by OTC Markets Group, Inc. (“OTC Link) under the ticker symbol BRKO.

The Commission is of the opinion that the public interest and the protection of investors require a suspension of trading in the securities of the above-listed company.

Therefore, it is ordered, pursuant to Section 12(k) of the Securities Exchange Act of 1934, that trading in the securities of the above-listed company is suspended for the period from 9:30 a.m. EDT on March 17, 2016 through 11:59 p.m. EDT on March 31, 2016.

By the Commission.
Jill M. Peterson,
Assistant Secretary.

[FR Doc. 2016-06365 Filed 3-17-16; 11:15 am]

BILLING CODE 8011-01-P